DEPARTMENT OF HOMELAND SECURITY

Coast Guard

33 CFR Part 117

[Docket No. USCG-2013-1023]

Drawbridge Operation Regulation; Shark River, NJ

AGENCY: Coast Guard, DHS.

ACTION: Notice of deviation from drawbridge regulation.

SUMMARY: The Coast Guard has issued a temporary deviation from the operating schedule that governs the bascule span of the Route 71 Bridge across Shark River (South Channel), mile 0.8, at Belmar, NJ. The deviation is necessary to facilitate the replacement of motor seals and instrumentation on the drawbridge. This deviation allows the bridge to remain in the closed to navigation position during the rehabilitation project.

DATES: This deviation is effective from 7 p.m. on Monday, January 6, 2014 until 5 a.m. on Friday, January 17, 2014.

ADDRESSES: The docket for this deviation [USCG-2013-1023] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Terrance Knowles, Environmental Protection Specialist, Coast Guard; telephone 757-398-6587, email Terrance.A.Knowles@uscg.mil. If you have questions on viewing the docket, call Barbara Hairston, Program Manager, Docket Operations, at 202-366-9826.

SUPPLEMENTARY INFORMATION: The New Jersey Department of Transportation (NJDOT), the owner and operator of this bascule drawbridge, has requested a temporary deviation from the current operating regulations to help facilitate the replacement of motor seals and instrumentation on the bridge. The Route 71 Bridge across Shark River (South Channel), mile 0.8, at Belmar, NJ, has a vertical clearance in the closed position of 13 feet above mean high water (MHW).

Under the current operating schedule set out in 33 CFR 117.5 and 117.751(b), the draw must open promptly and fully for the passage of vessels when a request or signal to open is given, from October 1 through May 14 of any year. Under this temporary deviation, the bridge will be closed-to-navigation for the rehabilitation, which will restrict the operation of the draw span from 7 p.m., on January 6, 2014 through 5 a.m., January 10, 2014 and from 7 p.m., on January 13, 2014 through 5 a.m., January 17, 2014. Vessels able to pass through the bridge in the closed position may do so at anytime. The bridge will not be able to open for emergencies and there is no alternate route for vessels to pass this section of Shark River.

The Coast Guard will inform the users of the waterways through our Local and Broadcast Notices to Mariners of the change in operating schedule for the bridge so that vessels can arrange their transits to minimize any impact caused by the temporary deviation. Waterway traffic consists of recreational boats, tugs, and barges.

In accordance with 33 CFR 117.35(e), the drawbridge must return to its regular operating schedule immediately at the end of the effective period of this temporary deviation. This deviation from the operating regulations is authorized under 33 CFR 117.35.

Dated: December 13, 2013.
Waverly W. Gregory, Jr.,
Bridge Program Manager, Fifth Coast Guard District.

[FR Doc. 2013-30653 Filed 12-23-13; 8:45 am]

BILLING CODE 9110-04-P